DEPARTMENT OF HEALTH AND HUMAN SERVICES

Administration for Children and Families

Proposed Information Collection Activity; Comment Request Proposed Projects:

Title: Computerized Support Enforcement Systems.

OMB No. 0980-0271.

Description: The information being collected is mandated by Section 454(16) of the Social Security Act which provides for the establishment and operation by the State agency, in accordance with an initial and annually updated advance automated data processing planning document (APD) approved under section 452(d) of the title, of a statewide automated data processing and information retrieval system. The system must meet the requirements of section 454A.

In addition, Section 454A(e)(1) requires that States create a State Case Registry (SCR) within their statewide automated child support systems, to include information on IV-D cases and non-IV-D orders established or modified in the State on or after October 1, 1998. Section 454A(e)(5) requires States to regularly update their cases in the SCR.

The data being collected for the APD are a combination of narrative, budgets and scheduled which are used to provide funding approvals on an annual basis and to monitor and oversee system development. Child support has separated regulations under 45 CFR 307.15 related to submittal of APDs supplemental authority for enhanced funding system development and substantial penalties for non-compliance with the statutory deadline of October 1, 2000. The information collection requirements for the development and maintenance of child support enforcement automated systems are addressed in 45 CER part 95 and the information collection.

Respondents: Courts and State Child Support Agencies.

Annual Burden Estimates
Instrument | Number of respondents | Number of responses per respondent | Average burden hours per response | Total burden hours
Non-IV-D data for SCR: Courts | 3,045 | 447 | 0.03 | 39,472.34
Child Data for IV-D cases for SCR: Courts | 3,045 | 213 | 0.08 | 53,832.56
States: Transmission to the FCR | 54 | 52 | 0
Estimated Total Annual Burden Hours |  |  |  | 93,304.89

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 18, 2011.
Robert Sargis,
Reports Clearance, Officer.

[FR Doc. 2011-1534 Filed 1-25-11; 8:45 am]

BILLING CODE 4184-01-P